DEPARTMENT OF JUSTICE

Drug Enforcement Administration

[Docket No. DEA-392]

Manufacturer of Controlled Substances Registration: Rhodes Technologies

ACTION: Notice of registration.

SUMMARY: Rhodes Technologies applied to be registered as a manufacturer of certain basic classes of controlled substances. The Drug Enforcement Administration (DEA) grants Rhodes Technologies registration as a manufacturer of those controlled substances.

SUPPLEMENTARY INFORMATION: By notice dated January 21, 2015, and published in the Federal Register on January 28, 2015, 80 FR 4593, Rhodes Technologies, 498 Washington Street, Coventry, Rhode Island 02816 applied to be registered as a manufacturer of certain basic classes of controlled substances. One objection was received on March 27, 2015. However, after a thorough review of this matter, the Drug Enforcement Administration has concluded that the issues raised in the objection do not warrant the denial of this application.

The DEA has considered the factors in 21 U.S.C. 823(a) and determined that the registration of Rhodes Technologies to manufacture the basic classes of controlled substances is consistent with the public interest and with United States obligations under international treaties, conventions, or protocols in effect on May 1, 1971. The DEA investigated the company's maintenance of effective controls against diversion by inspecting and testing the company's physical security systems, verifying the company's compliance with state and local laws, and reviewing the company's background and history.

Therefore, pursuant to 21 U.S.C. 823(a), and in accordance with 21 CFR 1301.33, the above-named company is granted registration as a bulk manufacturer of the basic classes of controlled substances:

Controlled substance | Schedule
Tetrahydrocannabinols (7370) | I
Methylphenidate (1724) | II
Codeine (9050) | II
Dihydrocodeine (9120) | II
Oxycodone (9143) | II
Hydromorphone (9150) | II
Hydrocodone (9193) | II
Levorphanol (9220) | II
Morphine (9300) | II
Oripavine (9330) | II
Thebaine (9333) | II
Oxymorphone (9652) | II
Noroxymorphone (9668) | II
Tapentadol (9780) | II
Fentanyl (9801) | II

The company plans to manufacture the above-listed controlled substances in bulk for conversion and sale to dosage form manufacturers.

In reference to drug code 7370, the company plans to bulk manufacture a synthetic tetrahydrocannabinol. No other activity for this drug code is authorized for this registration.

Dated: June 25, 2015.
Joseph T. Rannazzisi,
Deputy Assistant Administrator.

[FR Doc. 2015-16458 Filed 7-2-15; 8:45 am]

BILLING CODE 4410-09-P